DEPARTMENT OF TRANSPORTATION

Federal Aviation Administration

14 CFR Part 39

[Docket No. 2001-NM-272-AD]

RIN 2120-AA64

Airworthiness Directives; BAE Systems (Operations) Limited Model BAe 146-100A and -200A Series Airplanes

AGENCY: Federal Aviation Administration, DOT.

ACTION: Notice of proposed rulemaking (NPRM).

SUMMARY: This document proposes the adoption of a new airworthiness directive (AD) that is applicable to all BAE Systems (Operations) Limited Model BAe 146-100A and -200A series airplanes. This proposal would require an inspection to determine the part number of the inner links of the side stays for the main landing gear (MLG), and replacement of the inner links with new parts, if necessary. This action is necessary to prevent the failure of the MLG, which could result in damage to the airplane structure or injury to airplane occupants. This action is intended to address the identified unsafe condition.

DATES: Comments must be received by January 5, 2004.

ADDRESSES: Submit comments in triplicate to the Federal Aviation Administration (FAA), Transport Airplane Directorate, ANM-114, Attention: Rules Docket No. 2001-NM-272-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-272-AD” in the subject line and need not be submitted in triplicate. Comments sent via the Internet as attached electronic files must be formatted in Microsoft Word 97 or 2000 or ASCII text.

The service information referenced in the proposed rule may be obtained from British Aerospace Regional Aircraft American Support, 13850 Mclearen Road, Herndon, Virginia 20171. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-272-AD.” The postcard will be date stamped and returned to the commenter.

Availability of NPRMs

Any person may obtain a copy of this NPRM by submitting a request to the FAA, Transport Airplane Directorate, ANM-114, Attention: Rules Docket No. 2001-NM-272-AD, 1601 Lind Avenue, SW., Renton, Washington 98055-4056.

Discussion

The Civil Aviation Authority (CAA), which is the airworthiness authority for the United Kingdom, notified the FAA that an unsafe condition may exist on all BAE Systems (Operations) Limited Model BAe 146-100A and -200A series airplanes. The CAA advises that the safe life for the inner links of the main landing gear (MLG) side stays is listed incorrectly in the Airworthiness Limitations section of the Aircraft Maintenance Manual (AMM) at Issue 73. The safe life is listed incorrectly in the AMM as 60,000 total landings, rather than the actual safe life of either 57,500 total landings for BAe 146-100A series airplanes, or 37,400 total landings for BAe 146-200A series airplanes. Inner links with certain part numbers could be subject to failure if allowed to remain in service past the actual safe life for the part. This condition, if not corrected, could result in the failure of the MLG and subsequent damage to the airplane structure or injury to airplane occupants.

Explanation of Relevant Service Information

BAE Systems (Operations) Limited has issued Service Bulletin ISB.32-166, dated May 28, 2001, which describes procedures for an inspection to determine the part number of the side stay inner links for the MLG, and replacement of the side stay inner links with new parts, if necessary. The CAA classified this service bulletin as mandatory and issued British airworthiness directive 005-05-2001 in order to assure the continued airworthiness of this airplane in the United Kingdom.

The BAE Systems (Operations) Limited service bulletin references Messier-Dowty Service Bulletin 146-32-153, dated May 29, 2001, as an additional source of service information for accomplishment of the inspection and replacement, if necessary.

FAA's Conclusions

These airplane models are manufactured in the United Kingdom and are type certificated for operation in the United States under the provisions of § 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below.

Differences Between Proposed Rule and Referenced Service Bulletins

Although Messier-Dowty Service Bulletin 146-32-153, and BAE Systems (Operations) Limited Service Bulletin ISB.32-166, specify to submit certain information to each manufacturer, this proposed AD does not include such requirements.

Although Messier-Dowty Service Bulletin 146-32-153 specifies that operators may contact the manufacturer for information on the safe remaining life of side stays used at different operating weights, this proposed AD would require operators to determine the safe remaining life per a method approved by either the FAA or the CAA (or its delegated agent). In light of the type of action that would be required to address the unsafe condition, and consistent with existing bilateral airworthiness agreements, we have determined that, for this proposed AD, an appropriate action approved by either the FAA or the CAA would be acceptable for compliance with this proposed AD.

Cost Impact

The FAA estimates that 15 airplanes of U.S. registry would be affected by this proposed AD, that it would take approximately 1 work hour per airplane to accomplish the proposed inspection, and that the average labor rate is $65 per work hour. Based on these figures, the cost impact of the proposed AD on U.S. operators is estimated to be $975, or $65 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

BAE Systems (Operations) Limited (Formerly British Aerospace Regional Aircraft): Docket 2001-NM-272-AD.

Applicability: All Model BAe 146-100A and -200A series airplanes; certificated in any category.

Compliance: Required as indicated, unless accomplished previously.

To prevent the failure of the main landing gear (MLG), which could result in damage to the airplane structure or injury to airplane occupants, accomplish the following:

Inspection To Determine Part Number

(a) Within 50 landings or 31 days after the effective date of this AD, whichever occurs first: Inspect the inner link of the side stays of the main landing gear (MLG) to determine the part number, per the Accomplishment Instructions of BAE Systems (Operations) Limited Service Bulletin ISB.32-166, dated May 28, 2001. Although this service bulletin specifies to submit certain information to the manufacturer, this AD does not include such a requirement.

Note 1: BAE Systems (Operations) Limited Service Bulletin, ISB.32-166, dated May 28, 2001, references Messier-Dowty Service Bulletin 146-32-153, dated May 29, 2001, as an additional source of service information for accomplishment of the inspection and replacement required by this AD. Although the Messier-Dowty service bulletin specifies to submit certain information to the manufacturer, this AD does not include such a requirement.

Replacement at New Reduced Safe Life

(b) Replace any side stay which, during the inspection required by paragraph (a) of this AD, is found to have part number 200884319, 200884320, 200884331, 200884332, 200884342, or 200884343. Replace the side stay with a new side stay having the same part number, at the applicable compliance time specified in paragraph 1.D. “Compliance” of BAE Systems (Operations) Limited Service Bulletin ISB.32-166, dated May 28, 2001, as measured from the effective date of this AD.

Safe Remaining Life

(c) If any side stay having part number 200884319, 200884320, 200884331, 200884332, 200884342, or 200884343 has been used at different operating weights, and the service bulletin recommends contacting Messier-Dowty for appropriate action based on the safe remaining life of the side stay; contact the Manager, International Branch, ANM-116, FAA, Transport Airplane Directorate; or the Civil Aviation Authority (CAA), which is the airworthiness authority for the United Kingdom, (or its delegated agent); for appropriate action.

Alternative Methods of Compliance

(d) In accordance with 14 CFR 39.19, the Manager, International Branch, ANM-116, Transport Airplane Directorate, FAA, is authorized to approve alternative methods of compliance for this AD.

Note 2: The subject of this AD is addressed in British airworthiness directive 005-05-2001.

Issued in Renton, Washington, on November 28, 2003.
Kevin Mullin,
Acting Manager, Transport Airplane Directorate, Aircraft Certification Service.

[FR Doc. 03-30222 Filed 12-4-03; 8:45 am]

BILLING CODE 4910-13-P